DEPARTMENT OF AGRICULTURE

Forest Service

Plumas County Resource Advisory Committee

AGENCY: Forest Service, USDA.

ACTION: Notice of meeting.

SUMMARY: The Butte County Resource Advisory Committee will meet in Oroville, CA. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review Cycle 2 project applications for potential funding recommendations to National Forest Supervisors.

DATES: The meeting will be held September 26, 2011 from 6-9:30 p.m. This meeting was rescheduled from August 29, 2011.

ADDRESSES: The meeting will be held at the Feather River Ranger District Conference Room located at 875 Mitchell Ave, Oroville, CA Written comments may be submitted as described under Supplementary Information. All comments, including names and addresses when provided, are placed in the record and are available for public inspection and copying. The public may inspect comments received at the Plumas National Forest Supervisor's Office. Please call ahead to 530-283-7850 to facilitate entry into the building to view comments.

FOR FURTHER INFORMATION CONTACT: (or for special needs): Lee Anne Schramel Taylor, Forest Coordinator, USDA, Plumas National Forest, P.O. Box 11500/159 Lawrence Street, Quincy, CA 95971; (530) 283-7850; or by e-mail eataylor@fs.fed.us. Other RAC information may be obtained at http://www.fs.usda.gov and http://www.fs.fed.us/srs. Individuals who use telecommunication devices for the deaf (TDD) may call the Federal Information Relay Service (FIRS) at 1-800-877-8339 between 8 a.m. and 8 p.m., Eastern Standard Time, Monday through Friday. Please make requests a minimum of 5 days in advance for sign language interpreting, assistive listening devices or other reasonable accomodation for access to the facility or procedings by contacting the person listed FOR FURTHER INFORMATION CONTACT.

SUPPLEMENTARY INFORMATION: The following business will be conducted: Committee Review of Cycle 2 project applications for potential funding recommendations to Lassen, Plumas or Mendocino National Forest Supervisors. An agenda and other information will be posted at http://www.fs.fed.us/srs. Anyone who would like to bring related matters to the attention of the committee may file written statements with the committee staff before or after the meeting. The agenda will include time for people to make oral statements of three minutes or less after being recognized by the Committee Chair.

A summary of the meeting will be posted at http://www.fs.fed.us/srs within 21 days of the meeting.

August 31, 2011.
Laurence Crabtree,
Acting Forest Supervisor .

[FR Doc. 2011-22936 Filed 9-7-11; 8:45 am]

BILLING CODE P